DEPARTMENT OF ENERGY

Federal Energy Regulatory Commission

Combined Notice of Filings 3

September 02, 2010.

Take notice that the Commission has received the following Natural Gas Pipeline Rate and Refund Report filings:

Docket Numbers: RP10-1009-001.

Applicants: Carolina Gas Transmission Corporation.

Description: Carolina Gas Transmission Corporation submits tariff filing per 154.203: Order 587-U Compliance Filing (NAESB vs. 1.9) to be effective 11/1/2010.

Filed Date: 09/01/2010.

Accession Number: 20100901-5147.

Comment Date: 5 p.m. Eastern Time on Monday, September 13, 2010.

Docket Numbers: RP10-1043-001.

Applicants: Southern Natural Gas Company.

Description: (doc-less) Motion to Intervene of Dalton BD of Water, Light & Sinking Fund.

Filed Date: 09/01/2010.

Accession Number: 20100901-5055.

Comment Date: 5 p.m. Eastern Time on Monday, September 13, 2010.

Docket Numbers: RP10-1083-001.

Applicants: Eastern Shore Natural Gas Company.

Description: Eastern Shore Natural Gas Company submits tariff filing per 154.203: Compliance Filing—Order No. 587-U to be effective 11/1/2010.

Filed Date: 09/01/2010.

Accession Number: 20100901-5206.

Comment Date: 5 p.m. Eastern Time on Monday, September 13, 2010.

Docket Numbers: RP10-960-003.

Applicants: B-R Pipeline Company.

Description: B-R Pipeline Company submits tariff filing per 154.203: NAESB Version 1.9 compliance to be effective 11/1/2010.

Filed Date: 09/01/2010.

Accession Number: 20100901-5166.

Comment Date: 5 p.m. Eastern Time on Monday, September 13, 2010.

Docket Numbers: RP10-961-003.

Applicants: USG Pipeline Company.

Description: USG Pipeline Company submits tariff filing per 154.203: NAESB Version 1.9 Compliance to be effective 11/1/2010.

Filed Date: 09/01/2010.

Accession Number: 20100901-5208.

Comment Date: 5 p.m. Eastern Time on Monday, September 13, 2010.

Docket Numbers: RP10-922-001.

Applicants: Venice Gathering System, L.L.C.

Description: Venice Gathering System, L.L.C. submits tariff filing per 154.205(b): Errata Filing for NAESB 1.8 to be effective 7/1/2010.

Filed Date: 09/02/2010.

Accession Number: 20100902-5035.

Comment Date: 5 p.m. Eastern Time on Tuesday, September 14, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-22424 Filed 9-8-10; 8:45 am]

BILLING CODE 6717-01-P